DEPARTMENT OF COMMERCE

Economic Development Administration

Notice of National Advisory Council on Innovation and Entrepreneurship Meeting

AGENCY: Economic Development Administration, Commerce.

ACTION: Notice of an Open Meeting.

SUMMARY: The National Advisory Council on Innovation and Entrepreneurship (NACIE) will hold a public meeting on Thursday, August 24, 2017, from 1:00 p.m.-4:00 p.m. Eastern Time (ET) and Friday, August 25, 2017, from 9:00 a.m.-12:00 p.m. ET. During this time, members will hear from Federal innovation and entrepreneurship policymakers and program executives and discuss potential policies that would foster innovation, increase the rate of technology commercialization, and catalyze the creation of jobs in the United States. Topics to be covered include innovative manufacturing, rural growth through innovation and entrepreneurship, apprenticeships in entrepreneurship and high-growth technology sectors, and alignment of federal innovation and entrepreneurship policies and programs.

DATES:

Thursday, August 24, 2017

Time: 1:00 p.m.-4:00 p.m. ET

Friday, August 25, 2017

Time: 9:00 a.m.-12:00 p.m. ET

ADDRESSES: Herbert Clark Hoover Building (HCHB), 1401 Constitution Ave. NW., Washington, DC 20230, Room 72015. The entrance to HCHB is located on the west side of 14th St. NW. between D St. NW. and Constitution Ave. NW., and a valid government-issued ID is required to enter the building. Please note that pre-clearance is required in order to both attend the meeting in person and make a statement during the public comment portion of the meeting. Please limit comments to five minutes or less and submit a brief statement summarizing your comments to Craig Buerstatte (see contact information below) no later than 11:59 p.m. ET on Friday, August 18, 2017.

Teleconference

Teleconference and/or web conference connection information will be published prior to the meeting along with the agenda on the NACIE Web site at https://www.eda.gov/oie/nacie/.

FOR FURTHER INFORMATION, CONTACT: Craig Buerstatte, Office of Innovation and Entrepreneurship, Room 78018, 1401 Constitution Avenue NW., Washington, DC 20230; email: nacie@doc.gov; telephone: +1 202 482 8001; fax: +1 202 273 4781. Please reference “NACIE August 2017 Meeting” in the subject line of your correspondence.

SUPPLEMENTARY INFORMATION: NACIE, established by Section 25(c) of the Stevenson-Wydler Technology Innovation Act of 1980, as amended (15 U.S.C. 3720(c)), and managed by EDA's Office of Innovation and Entrepreneurship (OIE), is a Federal Advisory Committee Act (FACA) committee that provides advice directly to the Secretary of Commerce. NACIE's advice focuses on transformational policies and programs that aim to accelerate innovation and increase the rate at which research is translated into companies and jobs, including through entrepreneurship and the development of an increasingly skilled, globally competitive workforce. Comprised of successful entrepreneurs, innovators, angel investors, venture capitalists, and leaders from the nonprofit and academic sectors, NACIE has presented to the Secretary recommendations from throughout the research-to-jobs continuum regarding topics including improving access to capital, growing and connecting entrepreneurial ecosystems, increasing small business-driven research and development, and understanding the workforce of the future. In its advisory capacity, NACIE also serves as a vehicle for ongoing dialogue with the innovation, entrepreneurship, and workforce development communities.

The final agenda for the meeting will be posted on the NACIE Web site at http://www.eda.gov/oie/nacie/ prior to the meeting. Any member of the public may submit pertinent questions and comments concerning the NACIE's affairs at any time before or after the meeting. Comments may be submitted to Craig Buerstatte (see contact information below). Those unable to attend the meetings in person but wishing to listen to the proceedings can do so using the teleconference set forth herein above. Copies of the meeting minutes will be available by request within 90 days of the meeting date.

Dated: August 3, 2017.
Craig Buerstatte,
Acting Director, Office of Innovation and Entrepreneurship.

[FR Doc. 2017-16725 Filed 8-8-17; 8:45 am]

BILLING CODE 3510-WH-P